UNITED STATES POSTAL SERVICE

Board of Governors; Sunshine Act Meeting

Date and Time: Tuesday, September 23, 2008, at 12:30 p.m.; and Wednesday, September 24, 2008, at 8:30 a.m. and 11 a.m.

Place: Washington, DC, at U.S. Postal Service Headquarters, 475 L'Enfant Plaza, SW., in the Benjamin Franklin Room.

Status: September 23—12:30 p.m.—Closed; September 24—8:30 a.m.—Open; September 24—11 a.m.—Closed.

Matters to be Considered:

Tuesday, September 23 at 12:30 p.m. (Closed)

1. Financial Update.

2. Fiscal Year 2009 Integrated Financial Plan Briefing.

3. Fiscal Year 2009 Goals and Performance Assessment.

4. Product Pricing.

5. Strategic Issues.

6. Personnel Matters and Compensation Issues.

7. Governors' Executive Session—Discussion of prior agenda items and Board Governance.

Wednesday, September 24 at 8:30 a.m. (Open)

1. Minutes of the Previous Meetings, May 6-7, and July 28-29, 2008.

2. Remarks of the Chairman of the Board.

3. Remarks of the Postmaster General and CEO.

4. Committee Reports.

5. Financial Update.

6. Preliminary Fiscal Year 2010 Appropriation Request.

7. Capital Investments.

a. Distribution Quality Improvement (DQI) Program.

b. San Francisco, California, Townsend Carrier Annex.

8. Vision 2013—Five-Year Strategic Plan.

9. Board of Governors Bylaw Amendments.

10. National Identity Crimes Law Enforcement Network.

11. Tentative Agenda for the November 12-13, 2008, meeting in Washington, DC.

Wednesday, September 24 at 11:00 a.m. (Closed)—If Needed

1. Continuation of Tuesday's closed session agenda.

Contact Person for More Information: Julie S. Moore, Secretary of the Board, U.S. Postal Service, 475 L'Enfant Plaza, SW., Washington, DC 20260-1000. Telephone (202) 268-4800.

Julie S. Moore,
Secretary.

[FR Doc. E8-21904 Filed 9-16-08; 11:15 am]

BILLING CODE 7710-12-P